DEPARTMENT OF COMMERCE

International Trade Administration

[A-570-892]

Carbazole Violet Pigment 23 From the People's Republic of China: Notice of Rescission, in Part, of Antidumping Duty Administrative Review

AGENCY: Import Administration, International Trade Administration, Department of Commerce.

Effective Date: June 25, 2007.

FOR FURTHER INFORMATION CONTACT: Charles Riggle or Marin Weaver, Import Administration, Room 1870, International Trade Administration, U.S. Department of Commerce, 14th Street and Constitution Avenue, NW., Washington, DC 20230; telephone: (202) 482-0650 and (202) 482-2336, respectively.

Background

On December 1, 2006, the Department of Commerce (“the Department”) published a notice of opportunity to request an administrative review of the antidumping duty order on carbazole violet pigment 23 from the People's Republic of China (“PRC”). See Antidumping or Countervailing Duty Order, Finding, or Suspended Investigation: Opportunity to Request Administrative Review, 71 FR 69543, (December 1, 2006). On December 29, 2006, Nation Ford Chemical Company and Sun Chemical Company (“Petitioners”) requested that the Department conduct an administrative review of Aesthetic ColorTech (Shanghai) Co. Ltd., Anhui Worldbest Import and Export Co. Ltd., Cidic Company Ltd., Ganguink Group, Pigment Division, Gold Link Industries Co. Ltd., Hunan Sunlogistics International Co. Ltd. Shanghai Branch, Hygeia-Chem (Shanghai) Co. Ltd., Nantong Haidi Chemical Co. Ltd., Pudong Prime International Logistics Inc., Shanghai Rainbow Dyes Import and Export Co. Ltd., Sinocol Corporation Ltd., Trust Chem Company Ltd., and Yangcheng Tiacheng Chemical Co. Ltd. On January 4, 2007, Trust Chem Company Ltd. also requested an administrative review of its exports. The Department published a notice of initiation of the antidumping duty administrative review of carbazole violet pigment 23 from the PRC for the period December 1, 2005, through November 30, 2006, covering the firms named above. See Initiation of Antidumping and Countervailing Duty Administrative Reviews and Request for Revocation in Part, 72 FR 5005 (February 2, 2007). On May 2, 2007, Petitioners withdrew their request for an administrative review for Gold Link Industries Co. Ltd. and Nantong Haidi Chemical Co. Ltd. On May 3, 2007, Petitioners withdrew their request for an administrative review for Aesthetic ColorTech (Shanghai) Co. Ltd., Anhui Worldbest Import and Export Co. Ltd., Cidic Company Ltd., Ganguink Group, Pigment Division, Hunan Sunlogistics International Co. Ltd. Shanghai Branch, Hygeia-Chem (Shanghai) Co. Ltd., Pudong Prime International Logistics Inc., Shanghai Rainbow Dyes Import and Export Co. Ltd., Sinocol Corporation Ltd., and Yangcheng Tiacheng Chemical Co. Ltd. Petitioners were the sole requesters of an administrative review for these twelve companies.

Rescission of Review, in Part

The Department's regulations at 19 CFR 351.213(d)(1) provide that the Department will rescind an administrative review if the party that requested the review withdraws its request for review within 90 days of the date of publication of the notice of initiation of the requested review, or withdraws its request at a later date if the Department determines that it is reasonable to extend the time limit for withdrawing the request. Petitioner withdrew its request within the 90-day deadline. Therefore, we are rescinding this review of the antidumping duty order on carbazole violet pigment 23 from the PRC covering the period December 1, 2005, through November 30, 2006, for Gold Link Industries Co. Ltd., Nantong Haidi Chemical Co. Ltd., Aesthetic ColorTech (Shanghai) Co. Ltd., Anhui Worldbest Import and Export Co. Ltd., Cidic Company Ltd., Ganguink Group, Pigment Division, Hunan Sunlogistics International Co. Ltd. Shanghai Branch, Hygeia-Chem (Shanghai) Co. Ltd., Pudong Prime International Logistics Inc., Shanghai Rainbow Dyes Import and Export Co. Ltd., Sinocol Corporation Ltd., and Yangcheng Tiacheng Chemical Co. Ltd. The Department will issue appropriate assessment instructions directly to U.S. Customs and Border Protection 15 days of publication of this rescission in part. We are not rescinding the review with respect to Trust Chem Company Ltd.

Notification Regarding APOs

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: June 11, 2007.
Stephen J. Claeys,
Deputy Assistant Secretary for Import Administration.

[FR Doc. 07-3103 Filed 6-22-07; 8:45 am]

BILLING CODE 3510-05-M